DEPARTMENT OF COMMERCE

National Oceanic and Atmospheric Administration

[RTID 0648-XB107]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the following: Law Enforcement Committee (Closed Session); Snapper Grouper Committee; Dolphin Wahoo Committee; Mackerel Cobia Committee; Executive Committee; and Habitat and Ecosystem-Based Management Committee. The meeting week will also include a formal public comment session and a meeting of the Full Council (Partially Closed). Due to public health concerns associated with COVID-19 and current travel restrictions the meeting will be held via webinar.

DATES: The Council meeting will be held from 10 a.m. on Monday, June 14, 2021 until 12 p.m. on Friday, June 18, 2021.

ADDRESSES: Meeting address: The meeting will be held via webinar. Webinar registration is required. Details are included in SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, and briefing book materials will be posted on the Council's website at: http://safmc.net/safmc-meetings/council-meetings/. Webinar registration links for each meeting day will also be available from the Council's website.

Public comment: Public comment on items on this agenda may be submitted through the Council's online comment form at: https://safmc.wufoo.com/forms/m9mrll0e1fm0f/. Comments will be accepted from May 31 to June 18, 2021. These comments are accessible to the public, part of the Administrative Record of the meeting, and immediately available for Council consideration.

The items of discussion in the individual meeting agendas are as follows:

Law Enforcement Committee, Monday, June 14, 2021, 10 a.m. Until 10:30 a.m. (Closed Session)

The Committee will review nominations and select recipient of the Council's Law Enforcement Officer of the Year.

Council Session I, Monday, June 14, 2021, 10:30 p.m. Until 5:30 p.m. (Partially Closed)

The Council will meet in Closed Session to review applicants for open seats on the Council's Scientific and Statistical Committee (SSC) and various advisory panels. The Council will then meet in Open Session and receive reports from state agencies, Council liaisons, NOAA Office of Law Enforcement, and the U.S. Coast Guard. The Council will review and approve South Atlantic Research Priorities, receive presentations from NOAA Fisheries Southeast Fisheries Science Center (SEFSC) on the Southeast Longline Surveys and on the Dolphin Participatory Workshops, updates from the Recreational Reporting Workgroup and further discuss and comment on Executive Order 14008 on Tackling the Climate Crisis at Home and Abroad.

Snapper Grouper Committee, Tuesday, June 15, 2021, 8:30 a.m. Until 5:30 p.m. and Wednesday, June 16, 2021 From 8:30 a.m. Until 12 p.m.

The Committee will receive stock assessment reports for gag, golden tilefish, and red snapper. Each report will include a presentation on the stock assessment from NOAA Fisheries SEFSC, recommendations from the Council's SSC, and a Fishery Overview. The Committee will then develop a management response for each stock assessment. The Committee will review draft Amendment 50 to the Snapper Grouper Fishery Management Plan (FMP) addressing proposed measures for red porgy, review recommendations from its Snapper Grouper Advisory Panel (AP) and consider approving the amendment for public hearings.

The Committee will also receive a Fishery Overview for yellowtail snapper, review an options paper, receive recommendations from the Council's Snapper Grouper AP, and provide guidance on amendment development relative to yellowtail snapper. The Committee will also receive additional recommendations from the Snapper Grouper AP not covered earlier and updates on the South Atlantic Red Snapper Count and Greater Amberjack Count in the Gulf of Mexico and South Atlantic.

Dolphin Wahoo Committee, Wednesday, June 16, 2021, 1:30 p.m. Until 3:45 p.m. and Thursday, June 17, 2021 From 8:30 a.m. Until 10 a.m.

The Committee will review actions and alternatives for Amendment 10 to the Dolphin Wahoo FMP. The Amendment includes actions addressing: Revisions to recreational data and catch level recommendations; modifications to recreational accountability measures; measures to allow properly permitted commercial vessels with trap, pot or buoy gear on board to possess commercial quantities of dolphin and wahoo; removal of the current Operator Card requirement; reductions in the recreational vessel limit for dolphin; and reductions in the recreational bag limit and establishment of a recreational vessel limit for wahoo. The Committee will also review a project plan for amendments to the Dolphin Wahoo FMP.

Formal Public Comment, Wednesday, June 16, 2021, 4 p.m.—Public comment will be accepted via webinar on all items on the Council meeting agenda. Highlighted items: Approval of Amendment 10 to the Dolphin Wahoo FMP for submission to the Secretary of Commerce and public hearing approvals of Amendment 50 to the Snapper Grouper FMP (red porgy) and Coastal Migratory Pelagics Amendment 34 (Atlantic king mackerel). The Council Chair will determine the amount of time provided to each commenter based on the number of individuals wishing to comment.

Mackerel Cobia Committee, Thursday, June 17, 2021, 10 a.m. Until 12 p.m.

The Committee will review the Coastal Migratory Pelagic (CMP) Amendment 34 addressing management measures for Atlantic king mackerel and CMP Amendment 32 addressing management measures to end overfishing for Gulf of Mexico cobia. CMP Amendment 34 is scheduled to be approved for public hearings. The Committee will also receive a report from the Mackerel Cobia Advisory Panel.

Executive Committee, Thursday, June 17, 2021, 1:30 p.m. Until 3 p.m.

The Committee will receive a report from the Council Coordinating Committee meeting, review and approve the Council's 2021 Budget, and review the Council's FMP Workplan.

Habitat Protection and Ecosystem-Based Management Committee, Thursday, June 17, 2021, 3 p.m. Until 5 p.m.

The Committee will review public hearing comments on Amendment 10 to the Coral FMP, which would establish a shrimp fishery access area for the deepwater shrimp fishery along the Oculina Bank Habitat Area of Particular Concern, and is scheduled to approve all actions. The Committee will also receive an update on the Habitat Blueprint and a report from the Habitat Protection and Ecosystem-Based Management AP.

Council Session II, Friday, June 18, 2021, 8:30 a.m. Until 12 p.m.

The Council will receive a report from the Executive Director and staff reports on development of the Council's Allocation Tool to inform sector allocation decisions, Climate Change Scenario Planning, the Council's Citizen Science Program, and Outreach and Communications efforts. The Council will receive a report from the Outreach and Communications AP and an update on relevant activities at the International Commission for the Conservation of Atlantic Tunas (ICCAT).

NOAA Fisheries SEFSC staff will provide an update on the status of commercial electronic logbooks. NOAA Fisheries Southeast Regional Office staff will provide an overview of the draft Standardized Bycatch Reporting Methodology document, an update on the For-Hire Electronic Reporting program, and a Protected Resources report.

The Council will receive reports from the following committees: Law Enforcement; Snapper Grouper; Dolphin Wahoo; Mackerel Cobia; Executive; and Habitat Protection and Ecosystem-Based Management.

The Council will discuss other business, upcoming meetings, and take action as necessary.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

(Authority: 16 U.S.C. 1801 et seq.)

Dated: May 25, 2021.
Tracey L. Thompson,
Acting Deputy Director, Office of Sustainable Fisheries, National Marine Fisheries Service.

[FR Doc. 2021-11325 Filed 5-27-21; 8:45 am]

BILLING CODE 3510-22-P